DEPARTMENT OF COMMERCE

National Oceanic and Atmospheric Administration

[RTID 0648-XA484]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Monday, October 5, 2020, from 1 p.m. to 4 p.m.; Tuesday, October 6, 2020, from 9 a.m. to 4:30 p.m.; Wednesday, October 7, 2020, from 9 a.m. to 4 p.m.; and, Thursday, October 8, 2020, from 9 a.m. to 1 p.m. For agenda details, see SUPPLEMENTARY INFORMATION.

ADDRESSES: Due to public health concerns related to the spread of COVID-19 (coronavirus), the Mid-Atlantic Fishery Management Council's October meeting will be conducted by webinar only. This webinar-based meeting replaces the in-person meeting previously scheduled to be held in Riverhead, NY. Please see the Council's website (www.mafmc.org) for log-in procedures.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible).

Monday, October 5, 2020

Executive Committee—2021 Implementation Plan

Review progress on 2020 Implementation Plan, review staff recommendations for 2021 actions and deliverables, public comment opportunity, and develop draft recommendations for 2021 actions and deliverables

Tuesday, October 6, 2020

Spiny Dogfish Committee, Meeting as a Committee of the Whole—Spiny Dogfish Specifications

Review SSC, Advisory Panel, Monitoring Committee, and staff recommendations and adopt 2021-22 specifications

Chub Mackerel Specifications

Review SSC, Advisory Panel, Monitoring Committee, and staff recommendations for 2021 specifications and review previously implemented 2021 specifications and recommend changes if necessary

Executive Order 13921 on Promoting American Seafood Competitiveness and Economic Growth

Finalize prioritized list of recommendations for submission to NMFS

Research Priorities Update

Review approach and timeline for 2021 research priorities evaluation

Ecosystem Approach to Fisheries Management Updates (EAFM)

Summer flounder recreational discard management strategy evaluation and other EAFM activities

Joint Council/SSC Meeting

Direction for SSC Socioeconomic workgroup, science considerations due to missing 2020 data, and risk policy considerations for ocean quahog

Wednesday, October 7, 2020

Bluefish Allocation and Rebuilding Amendment

Approve a range of alternatives for inclusion into a public hearing document

Recreational Reform Initiative

Update on progress and consider initiating a management action

Thursday, October 8, 2020

Update/Overview of the Proposed Rule for the Atlantic Large Whale Take Reduction Plan

Business Session

Committee Reports (SSC and Executive Committee); Executive Director's Report; Organization Reports; and, Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: September 11, 2020.
Rey Israel Marquez,
Acting Deputy Director, Office of Sustainable Fisheries, National Marine Fisheries Service.

[FR Doc. 2020-20431 Filed 9-15-20; 8:45 am]

BILLING CODE 3510-22-P